INTERNATIONAL TRADE COMMISSION

[Investigation No. 332-485]

Canned Peaches, Pears, and Fruit Mixtures: Conditions of Competition Between U.S. and Principal Foreign Supplier Industries

AGENCY: United States International Trade Commission.

ACTION: Cancellation of public hearing.

SUMMARY: On July 2, 2007, the only scheduled witness for the hearing in investigation No. 332-485, Canned Peaches, Pears, and Fruit Mixtures: Conditions of Competition between U.S. and Principal Foreign Supplier Industries, scheduled for July 12, 2007, withdrew his request to appear. Therefore, the public hearing in this investigation has been canceled.

Background: The Commission published notice of institution of the investigation and hearing in the Federal Register on February 13, 2007 (72 FR 6744). The notice asked that persons interested in appearing at the hearing file their requests by the close of June 28, 2007, and stated that the hearing would be canceled if no requests were received by that date. One request was received by the June 28 deadline, but it was subsequently withdrawn on July 2, 2007. Accordingly, the Commission has canceled the hearing. All other information about the investigation, including a description of the subject matter to be addressed, contact information, and procedures relating to written submissions, remains the same as in the original notice. The public record for this investigation may be viewed on the Commission's electronic docket (EDIS) at http://www.usitc.gov/secretary/edis.htm.

By order of the Commission.
Issued: July 3, 2007.
William R. Bishop,
Acting Secretary to the Commission.

[FR Doc. E7-13276 Filed 7-9-07; 8:45 am]

BILLING CODE 7020-02-P